DEPARTMENT OF TRANSPORTATION

Federal Aviation Administration

14 CFR Part 73

[Docket No. FAA-2019-0094; Airspace Docket No. 15-AWP-17]

RIN 2120-AA66

Proposed Establishment of Restricted Area R-7202; Guam, GU

AGENCY: Federal Aviation Administration (FAA), DOT.

ACTION: Notice of proposed rulemaking (NPRM); withdrawal.

SUMMARY: The FAA is withdrawing the NPRM published in the Federal Register on March 5, 2019, proposing to establish Restricted Area R-7202 on the island of Guam, GU. The FAA does not establish restricted areas for small arms gun ranges.

DATES: The proposed rule establishing Restricted Area R-7202 is withdrawn as of July 17, 2019.

FOR FURTHER INFORMATION CONTACT: Kenneth Ready, Airspace Policy Group, Office of Airspace Services, Federal Aviation Administration, 800 Independence Avenue SW, Washington, DC 20591; telephone: (202) 267-8783.

SUPPLEMENTARY INFORMATION:

History

The FAA published a NPRM in the Federal Register for Docket No. FAA-2019-0094. (84 FR 7840; March 5, 2019). The NPRM proposed to establish restricted area R-7202 on the island of Guam, GU.

Interested parties were invited to participate in this rulemaking effort by submitting written comments on the proposal. Six comments were received.

Discussion of Comments

Three comments were in support of the proposal. One commenter suggested relocating the range to a location where bird and wildlife have been eradicated due to military expansion, as the proposed location would disrupt bird and wildlife. One commenter questioned the altitude of the proposal in relation to the weapons being proposed. One commenter questioned the United States Marine Corps (USMC) move from Okinawa due to China's tyrannical influences on Japan.

FAA's Conclusions

The FAA does not issue restricted areas for small arms gun ranges within the United States. Issuing a restricted area for small arm gun ranges in Guam would set a precedent nationwide at military and countless civilian gun clubs. This proliferation of restricted areas would result in inefficient management of the National Airspace System (NAS).

The USMC purpose and need for the airspace is to provide a safe and effective area for live-fire training. The FAA allows for live-fire training at small arm gun ranges in within the United States without a restricted area. The USMC has numerous live fire ranges without the segregation that a restricted area provides and can complete their mission safely and effectively in Guam without one.

List of Subjects in 14 CFR Part 73

Airspace, Prohibited areas, Restricted areas.

The Withdrawal

Accordingly, pursuant to the authority delegated to me, the FAA withdraws the NPRM published in the Federal Register on March 5, 2019 (84 FR 7840), FR Doc. 2019-03931, is hereby withdrawn.

Authority: 49 U.S.C. 106(f), 106(g); 40103, 40113, 40120; E.O. 10854, 24 FR 9565, 3 CFR, 1959-1963 Comp., p. 389.

Issued in Washington, DC, on July 8, 2019.
Rodger A. Dean Jr.,
Manager, Airspace Policy Group.

[FR Doc. 2019-15121 Filed 7-16-19; 8:45 am]

BILLING CODE 4910-13-P